Title 3—

The President

Proclamation 11006 of January 28, 2026

National School Choice Week, 2026

By the President of the United States of America

A Proclamation

For 250 glorious years, our Nation has been sustained by a simple yet powerful truth: The American people—not bureaucrats, politicians, or left-wing activists—have the God-given right to secure their own destiny. This National School Choice Week, we reaffirm this sacred principle, and we renew our commitment to empowering every American parent with the freedom to forge their family's—and our Nation's—future.

Tragically, for decades, disastrous Federal education policy led to record-low reading and math scores and out-of-control Government spending. America's Golden Age begins in the classroom. For that reason, I have made it a top priority to expand educational freedom and once again put children and parents first.

My Administration is fighting every day to ensure that universal school choice is recognized as a right for every family. No student should ever be trapped in a failing school, and parents deserve more choices, not fewer. Guided by this vision, we are working to guarantee that every child—regardless of where they live—has access to a world-class education and a chance to achieve the American Dream.

Last July, I proudly signed into law the historic One Big Beautiful Bill, which for the first time in American history, creates a nationwide tax credit program to make education more affordable for families. Any taxpayer can reduce what they owe the Government by contributing to a scholarship-granting organization and American families can use these scholarships to select the education that best fits their needs and values.

The One Big Beautiful Bill also makes education more affordable by giving every American newborn a Trump Account, which makes it easier for families to use 529 accounts for elementary and high school, not just college.

I also signed an Executive Order last year directing the Department of Education to issue guidance on how States can use Federal funding formulas to support their K-12 scholarship programs and directing the Secretary of Education to prioritize school choice programs in the Department's grant programs. I have also ordered the Secretary of Education to facilitate the closure of the Department of Education, which will ultimately save billions of dollars and allow States to determine their own education policy.

To further defend the American parent, my Administration is bringing the sinister “Diversity, Equity, and Inclusion” agenda to a screeching halt and replacing it with a system based on the fundamental principle of merit. We are proudly eliminating Federal funding for schools that permit discriminatory treatment and anti-American indoctrination. We are bringing common sense back to our classrooms and once again teaching our children to love their country and honor our history.

As my Administration continues to fight for American families, I also commend every State leading the school choice movement by enacting universal K-12 school choice programs in their communities. I look forward to working with other States and leaders in the Congress to provide universal school choice for every American family.

Our glorious American future depends on the next generation's ability to learn, lead, and innovate. I will always be a champion for the right of every parent to be the steward of their children's education, and together, we will never waver in putting our parents first, our children first, and America first.

NOW, THEREFORE, I, DONALD J. TRUMP, President of the United States of America, by virtue of the authority vested in me by the Constitution and the laws of the United States, do hereby proclaim January 25 through January 31, 2026, as National School Choice Week.

IN WITNESS WHEREOF, I have hereunto set my hand this twenty-eighth day of January, in the year of our Lord two thousand twenty-six, and of the Independence of the United States of America the two hundred and fiftieth.

[FR Doc. 2026-02170

Filed 1-30-26; 11:15 am]

Billing code 3395-F4-P